DEPARTMENT OF LABOR

Employment and Training Administration

Notice of a Change in Status of the Extended Benefit (EB) Program for the Virgin Islands

AGENCY: Employment and Training Administration, Labor.

ACTION: Notice.

SUMMARY: This notice announces a changes in benefit period eligibility under the EB program that have occurred since the publication of the last notice regarding the State's EB status: Based on the data submitted by the Virgin Islands for the week ending April 10, 2021, the Virgin Islands' 13-week IUR was 4.83 percent, falling below the 5.0 percent IUR threshold necessary to remain “on” EB. Therefore, the EB period for the Virgin Islands ends on May 1, 2021. The state will remain in an “off” period for a minimum of 13 weeks.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

SUPPLEMENTARY INFORMATION: The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

Signed in Washington, DC.
Suzan G. LeVine,
Principal Deputy Assistant Secretary for Employment and Training.

[FR Doc. 2021-09472 Filed 5-4-21; 8:45 am]

BILLING CODE 4510-FW-P